COMMODITY FUTURES TRADING COMMISSION

Global Markets Advisory Committee

AGENCY: Commodity Futures Trading Commission.

ACTION: Notice of meeting.

SUMMARY: The Commodity Futures Trading Commission (CFTC) announces that on March 6, 2024 from 10:00 a.m. to 3:00 p.m. Eastern Standard Time, the Global Markets Advisory Committee (GMAC) will hold an in-person public meeting at the CFTC's Washington, DC headquarters with options for the public to attend virtually. At this meeting, the GMAC will hear a presentation from the GMAC's Global Market Structure Subcommittee, Technical Issues Subcommittee, and Digital Asset Markets Subcommittee on various workstreams, and consider recommendations from the Subcommittees on such workstreams.

DATES: The meeting will be held on March 6, 2024, from 10:00 a.m. to 3:00 p.m. Eastern Standard Time. Please note that the meeting may end early if the GMAC has completed its business. Members of the public who wish to submit written statements in connection with the meeting should submit them by March 13, 2024.

ADDRESSES: The meeting will take place in the Conference Center at the CFTC's headquarters, Three Lafayette Centre, 1155 21st Street, NW, Washington, DC 20581. You may submit public comments, identified by “Global Markets Advisory Committee,” through the CFTC website at https://comments.cftc.gov. Follow the instructions for submitting comments through the Comments Online process on the website. If you are unable to submit comments online, contact Harry Jung, Designated Federal Officer, via the contact information listed below to discuss alternate means of submitting your comments. Any statements submitted in connection with the committee meeting will be made available to the public, including publication on the CFTC website, https://www.cftc.gov.

FOR FURTHER INFORMATION CONTACT: Harry Jung, Global Markets Advisory Committee Designated Federal Officer, Commodity Futures Trading Commission, Three Lafayette Centre, 1155 21st Street NW, Washington, DC; (202) 394-3995; or HJung@cftc.gov.

SUPPLEMENTARY INFORMATION: The meeting will be open to the public with seating on a first-come, first-served basis. Members of the public may also listen to the meeting by telephone by calling a domestic or international toll or toll-free number to connect to a live, listen-only audio feed. Call-in participants should be prepared to provide their first name, last name, and affiliation.

Domestic Toll and Toll-Free Numbers:

+1 669 254 5252 US (San Jose)

+1 646 828 7666 US (New York)

+1 646 964 1167 US (US Spanish Line)

+1 669 216 1590 US (San Jose)

+1 415 449 4000 US (US Spanish Line)

+1 551 285 1373 US (New Jersey)

833 435 1820 US Toll Free

833 568 8864 US Toll Free

International Numbers are available here: https://cftc-gov.zoomgov.com/u/aeh1vykwIr, and will be posted on the CFTC's website, https://www.cftc.gov, on the page for the meeting, under Related Links.

Call-In/Webinar ID: 161 691 1228

Pass Code/Pin Code: 129163

Members of the public may also view a live webcast of the meeting via the https://www.cftc.gov website. The meeting agenda may change to accommodate other Committee priorities. For agenda updates, please visit https://www.cftc.gov/About/AdvisoryCommittees/GMAC.

After the meeting, a transcript of the meeting will be published through a link on the CFTC's website, https://www.cftc.gov. Persons requiring special accommodations to attend the meeting because of a disability should notify the contact person above.

(Authority: 5 U.S.C. 1009(a)(2).)

Dated: February 13, 2024.
Robert Sidman,
Deputy Secretary of the Commission.

[FR Doc. 2024-03266 Filed 2-15-24; 8:45 am]

BILLING CODE 6351-01-P